DEPARTMENT OF HEALTH AND HUMAN SERVICES

National Institutes of Health

National Cancer Institute Amended; Notice of Meeting

Notice is hereby given of a change in the meeting of the National Cancer Institute Special Emphasis Panel, March 11, 2013, 8:00 a.m. to March 12, 2013, 5:00 p.m., Hilton Washington/Rockville, 1750 Rockville Pike, Rockville, MD 20852 which was published in the Federal Register on January 17, 2013, 78 FR 3901.

This notice is being amended to change the title from “NCI OmniBus Review Meeting” to “Cancer Detection and Screening (Omnibus)”. The meeting is closed to the public.

Dated: January 29, 2013.
Melanie J. Gray,
Program Analyst, Office of Federal Advisory Committee Policy.

[FR Doc. 2013-02280 Filed 2-1-13; 8:45 am]

BILLING CODE 4140-01-P